DEPARTMENT OF STATE

[Public Notice: 7834]

Notice of U.S. Hosting of 2012-2013 United States-Mexico Binational Bridges and Border Crossings Meetings; Executive Order 11423, as Amended

AGENCY: Bureau of Western Hemisphere Affairs; Department of State.

ACTION: Notice.

SUMMARY: The Department of State hereby gives notice that the United States will host the 2012 series of U.S.-Mexico Binational Bridges and Border Crossings Meetings. The United States has not yet determined the actual dates and locations of the meetings, but expects to host one in summer 2012 and one in the fall/winter 2012, with a plenary session in early 2013. These binational meetings will typically include an open session for those members of the public who are registered to attend the event. The Department of State welcomes public participation in the public sessions. To request notification of the dates and locations of upcoming meetings, please provide your name and email address to the Office of Mexican Affairs' Border Affairs Unit via email at WHA-BorderAffairs@state.gov or by mail at WHA/MEX—Room 3908, U.S. Department of State, 2201 C Street NW., Washington, DC 20520.

DATES: There is no deadline. Requests to be notified will be accepted throughout the year.

FOR FURTHER INFORMATION CONTACT: Angela Palazzolo of the Office of Mexican Affairs' Border Affairs Unit at 202-647-1202 or via email at WH-BorderAffairs@state.gov.

Dated: March 21, 2012.
Colleen Hoey,
Acting Director, Office of Mexican Affairs, Department of State.

[FR Doc. 2012-7352 Filed 3-26-12; 8:45 am]

BILLING CODE 4710-29-P